DEPARTMENT OF COMMERCE

National Oceanic and Atmospheric Administration

[I.D. 021207H]

Fisheries of the Caribbean; Southeastern Data, Assessment, and Review (SEDAR); Caribbean queen conch; Caribbean yellowfin grouper; Caribbean mutton snapper; Public Meetings.

AGENCY: National Marine Fisheries Service (NMFS), National Oceanic and Atmospheric Administration (NOAA), Commerce.

ACTION: Notice of SEDAR Workshops for Caribbean queen conch, yellowfin grouper, and mutton snapper.

SUMMARY: The SEDAR assessments of the Caribbean stocks of yellowfin grouper, mutton snapper, and queen conch will consist of a series of three workshops: a Data Workshop, an Assessment Workshop, and a Review Workshop. This is the fourteenth SEDAR.

DATES: The Data Workshop will take place March 12—16, 2007; the Assessment Workshop will take place June 4-8, 2007; the Review Workshop will take place July 23-27, 2007. See SUPPLEMENTARY INFORMATION for specific dates and times.

ADDRESSES: The Data Workshop and Assessment Workshop will be held at the Marriott Frenchmen's Reef, 5 Estate Bakkeroe, St. Thomas, USVI; telephone: (340) 776-8500. The Review Workshop will be held at Hotel El Convento, 100 Cristo Street, Old San Juan, Puerto Rico 00901; telephone: (787) 723-9036.

FOR FURTHER INFORMATION CONTACT: John Carmichael, SEDAR Coordinator, 4055 Faber Place Drive, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the SEDAR process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The products of the Review Workshop are a Consensus Summary documenting Panel opinions regarding the strengths and weaknesses of the stock assessment and input data, and an Advisory Report summarizing stock status and recommending management criteria. Participants for SEDAR Workshops, appointed by the regional Fishery Management Councils, the Southeast Regional Office (SERO), and the Southeast Fishery Science Center (SEFSC), include data collectors and database managers; stock assessment scientists, biologists, and researchers; constituency representatives including fishermen, environmentalists, and NGO's; International experts; and staff of Councils, Commissions, and state and federal agencies.

SEDAR 14 Workshop Schedule:

March 12-16, 2007; SEDAR 14 Data Workshop

March 12, 2007: 1 p.m.—8 p.m.; March 13-15, 2007: 8 a.m.—8 p.m.; March 16, 2007: 8 a.m.—1 p.m.

An assessment data set and associated documentation will be developed during the Data Workshop. Participants will evaluate all available data and select appropriate sources for providing information on life history characteristics, catch statistics, discard estimates, length and age composition, and fishery dependent and fishery independent measures of stock abundance.

June 4-8, 2007. SEDAR 14 Assessment Workshop

June 4, 2007: 1 p.m.—8 p.m.; June 3-7, 2007: 8 a.m.—8 p.m.; June 8, 2007: 8 a.m.—1 p.m.

Using datasets provided by the Data Workshop, participants will develop population models to evaluate stock status, estimate population benchmarks and Sustainable Fisheries Act criteria, and project future conditions. Participants will recommend the most appropriate methods and configurations for determining stock status and estimating population parameters. Participants will prepare a workshop report, compare and contrast various assessment approaches, and determine whether the assessments are adequate for submission to the review panel.

July 23-27, 2007. SEDAR 14 Review Workshop

July 23, 2007: 1 p.m.—8 p.m.; June 24-26, 2007: 8 a.m.—8 p.m.; July 27, 2007: 8 a.m.—1 p.m.

The Review Workshop is an independent peer review of the assessment developed during the Data and Assessment Workshops. Workshop Panelists will review the assessment and document their comments and recommendations in a Consensus Summary. Panellists will summarize recommended population parameter estimates in an Advisory Report.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 5 business days prior to each workshop.

Dated: February 12, 2007.
James P. Burgess,
Acting Director, Office of Sustainable Fisheries, National Marine Fisheries Service.

[FR Doc. E7-2737 Filed 2-15-07; 8:45 am]

BILLING CODE 3510-22-S